DEPARTMENT OF VETERANS AFFAIRS

Advisory Committee on OIF/OEF Veterans and Families; Notice of Meeting

The Department of Veterans Affairs (VA) gives notice under Public Law 92-463 (Federal Advisory Committee Act) that the Advisory Committee on OIF/OEF Veterans and Families will meet on May 14-16, 2007, at The Hilton Alexandria Old Town, 1767 King Street, Alexandria, Virginia. The meeting sessions will begin at 9 a.m. each day and will adjourn at 4;30 p.m. on May 14, 3:30 p.m. on May 15, and 1 p.m. on May 16. The meeting will be open to the public.

The purpose of the Committee is to advise the Secretary of Veterans Affairs on the full spectrum of health care, benefits delivery and related family support issues that confront servicemembers during their transition from active duty to veteran status and during their post-service years. The Committee will focus on the concerns of all men and women with active military service in Operation Iraqi Freedom and/or Operation Enduring Freedom, but will pay particular attention to severely disabled veterans and their families.

The agenda for the May 14-16 meeting will include briefings by senior officials of the Veterans Health Administration, Veterans Benefits Administration, and National Cemetery Administration on VA programs and policies that particularly affect OIF/OEF veterans. Other presentations will focus on the ongoing activities of VA's Office of Seamless Transition, and deliberations of the Joint (VA-DoD) Executive Council. The May 16 session will be devoted to Committee discussion of its general workplan, possible site visits to VA facilities, and future meeting dates.

The meeting will include time reserved for public comments. Individuals wishing to make oral statements must pre-register not later than May 9, 2007 by contacting Tiffany Glover via e-mail tiffany.glover@va.gov, and by submitting a 1-2 page summary of their statements for inclusion in the official record of the meeting. Oral statements by the public will be limited to five minutes each and will be received at 3 p.m.-3:30 p.m. on May 15, and at 11 a.m.-12 p.m. on May 16. The public may also submit written statements for the Committee's review to the Advisory Committee on OIF/OEF Veterans and Families (008), Department of Veterans Affairs, 810 Vermont Avenue, NW., Washington, DC 20420.

Any member of the public seeking additional information should contact Ronald Thomas, Esq., Designated Federal Officer, at (202) 273-5182.

Dated: April 25, 2007.
By direction of the Secretary.
E. Philip Riggin,
Committee Management Officer.

[FR Doc. 07-2107 Filed 4-30-07; 8:45 am]

BILLING CODE 8320-01-M